DEPARTMENT OF ENERGY

Federal Energy Regulatory Commission

Combined Notice of Filings #1

Take notice that the Commission received the following electric corporate filings:

Docket Numbers: EC13-146-000.

Applicants: Red Oak Power, LLC.

Description: Red Oak Power, LLC's Section 203 Application for Authorization of Disposition of Jurisdictional Facilities.

Filed Date: 9/13/13.

Accession Number: 20130913-5125.

Comments Due: 5 p.m. ET 10/4/13.

Take notice that the Commission received the following electric rate filings:

Docket Numbers: ER12-2681-002.

Applicants: ITC Holdings Corp.

Description: Compliance filing of the ITC Midsouth Operating Companies.

Filed Date: 9/13/13.

Accession Number: 20130913-5139.

Comments Due: 5 p.m. ET 10/4/13.

Docket Numbers: ER13-948-000.

Applicants: Entergy Services, Inc.

Description: Compliance Filing and Comments in Support of the September 13, 2013 MISO eTariff filing of Entergy Services, Inc. on behalf of the Entergy Operating Companies.

Filed Date: 9/13/13.

Accession Number: 20130913-5136.

Comments Due: 5 p.m. ET 10/4/13.

Docket Numbers: ER13-1686-000.

Applicants: Niagara Mohawk Power Corporation, New York Independent System Operator, Inc.

Description: Refund Report to be effective N/A.

Filed Date: 9/16/13.

Accession Number: 20130916-5089.

Comments Due: 5 p.m. ET 10/7/13.

Docket Numbers: ER13-1875-001.

Applicants: New England Power Pool Participants Committee, ISO New England Inc.

Description: CFTC Compliance Filing RE: Associate Persons to be effective 11/12/2013.

Filed Date: 9/13/13.

Accession Number: 20130913-5089.

Comments Due: 5 p.m. ET 10/4/13.

Docket Numbers: ER13-2337-001.

Applicants: Midcontinent Independent System Operator, Inc.

Description: 09-13-2013 SA 2017 G540/G548 GIA Amendment to be effective 9/7/2013.

Filed Date: 9/13/13.

Accession Number: 20130913-5096.

Comments Due: 5 p.m. ET 10/4/13.

Docket Numbers: ER13-2377-000.

Applicants: Portland General Electric Company

Description: Price Index and Attachment C change to be effective9/13/2013.

Filed Date: 9/13/13.

Accession Number: 20130913-5080.

Comments Due: 5 p.m. ET 10/4/13.

Docket Numbers: ER13-2378-000.

Applicants: Midcontinent Independent System Operator, Inc.

Description: 09-13-2013 SA 2356 IP&L-IP&L GIA (J238) to be effective9/13/2013.

Filed Date: 9/13/13.

Accession Number: 20130913-5083.

Comments Due: 5 p.m. ET 10/4/13.

Docket Numbers: ER13-2379-000.

Applicants: Midcontinent Independent System Operator, Inc.

Description: 2013-09-13 Attachment O Joint TO Filing to be effective 1/1/2014.

Filed Date: 9/13/13.

Accession Number: 20130913-5085.

Comments Due: 5 p.m. ET 10/4/13.

Docket Numbers: ER13-2380-000.

Applicants: Puget Sound Energy, Inc.

Description: Revised OATT Schedules 4 & 9—Mid-C Index to be effective 9/13/2013.

Filed Date: 9/13/13.

Accession Number: 20130913-5099.

Comments Due: 5 p.m. ET 10/4/13.

Docket Numbers: ER13-2381-000.

Applicants: Ameren Illinois Company.

Description: Sectionalizing Switch Replacement Letter to be effective 8/19/2013.

Filed Date: 9/16/13.

Accession Number: 20130916-5063.

Comments Due: 5 p.m. ET 10/7/13.

Docket Numbers: ER13-2382-000.

Applicants: Southwest Power Pool, Inc., Tri-County Electric Cooperative, Inc.

Description: Joint Request of Southwest Power Pool, Inc. and Tri-County Electric Cooperative, Inc., for Temporary, Limited Tariff Waiver.

Filed Date: 9/16/13.

Accession Number: 20130916-5073.

Comments Due: 5 p.m. ET 10/7/13.

Docket Numbers: ER13-2383-000.

Applicants: Bangor Hydro Electric Company, ISO New England Inc.

Description: Bangor Hydro Electric Company submits tariff filing per 35.15: Notice of Cancellation of LSA with Black Bear HVGW, LLC to be effective 8/1/2013.

Filed Date: 9/16/13.

Accession Number: 20130916-5075.

Comments Due: 5 p.m. ET 10/7/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2013.
Nathaniel J. Davis, Sr.,
Deputy Secretary.

[FR Doc. 2013-23036 Filed 9-20-13; 8:45 am]

BILLING CODE 6717-01-P